DEPARTMENT OF HOUSING AND URBAN DEVELOPMENT

[Docket No. FR-FR-6335-N-01]

Housing Trust Fund Federal Register Allocation Notice

AGENCY: Office of the Assistant Secretary for Community Planning and Development, HUD.

ACTION: Notice of fiscal year 2022 funding awards.

SUMMARY: The Housing and Economic Recovery Act of 2008 (HERA) established the Housing Trust Fund (HTF) to be administered by HUD. Pursuant to the Federal Housing Enterprises Financial Security and Soundness Act of 1992 (the Act), as amended by HERA, eligible HTF grantees are the 50 states, the District of Columbia, the Commonwealth of Puerto Rico, American Samoa, Guam, the Commonwealth of Northern Mariana Islands, and the United States Virgin Islands. This notice announces the formula allocation amount for each eligible HTF grantee.

FOR FURTHER INFORMATION CONTACT: Virginia Sardone, Director, Office of Affordable Housing Programs, Room 7164, Department of Housing and Urban Development, 451 Seventh Street SW, Washington, DC 20410-7000; telephone (202) 708-2684. (This is not a toll-free number.) A telecommunications device for hearing- and speech-impaired persons (TTY) is available at 800-877-8339 (Federal Information Relay Service). (This is a toll-free number).

SUPPLEMENTARY INFORMATION: Section 1131 of HERA, Division A amended the Act to add a new section 1337 entitled “Affordable Housing Allocations” and a new section 1338 entitled “Housing Trust Fund.” Congress authorized the Housing Trust Fund (HTF) with the stated purpose of: (1) Increasing and preserving the supply of rental housing for extremely low-income families with incomes between 0 and 30 percent of area median income and very low-income families with incomes between 30 and 50 percent of area median income, including homeless families, and (2) increasing homeownership for extremely low-income and very low-income families. Section 1337 of the Act (12 U.S.C. 4567) requires Federal National Mortgage Association (Fannie Mae) and Federal Home Loan Mortgage Corporation (Freddie Mac) to set-aside 4.2 basis points (.042 percent) of the unpaid principal of their new mortgage purchases annually to fund the HTF and the Capital Magnet Fund. Each year, 65% of the amounts set-aside by Fannie Mae and Freddie Mac are then allocated to the HTF.

Section 1338 of the Act (12 U.S.C. 4568) directs HUD to establish, through regulation, the formula for distribution of amounts made available for the HTF. The provisions in section 1338(c)(3) of the Act (12 U.S.C. 4568(c)(3)) specify the factors to be used for the formula and priority for certain factors. The HTF implementing regulations are at 24 CFR part 93. The factors and methodology HUD uses to allocate HTF funds among eligible grantees are established in the HTF regulation at 24 CFR 93.50, 93.51, and 93.52.

The funding announced for Fiscal Year 2022 through this notice is $748,948,400.71. Appendix A to this notice provides the HTF allocation amount for each grantee.

Jemine Bryon,
Acting General Deputy Assistant Secretary for Community Planning and Development.

Appendix A:

FY 2022 Housing Trust Fund Allocation Amounts

Grantee | FY 2022 allocation
1 Alabama | $7,451,918
2 Alaska | 2,982,433
3 Arizona | 11,533,111
4 Arkansas | 4,573,938
5 California | 132,021,213.71
6 Colorado | 10,917,121
7 Connecticut | 9,720,275
8 Delaware | 2,982,433
9 District of Columbia | 2,982,433
10 Florida | 37,274,870
11 Georgia | 19,218,923
12 Hawaii | 3,744,423
13 Idaho | 2,982,433
14 Illinois | 33,710,562
15 Indiana | 11,745,382
16 Iowa | 4,884,132
17 Kansas | 4,646,916
18 Kentucky | 7,560,281
19 Louisiana | 8,901,548
20 Maine | 2,982,433
21 Maryland | 11,215,433
22 Massachusetts | 18,648,225
23 Michigan | 18,775,197
24 Minnesota | 10,497,206
25 Mississippi | 4,433,035
26 Missouri | 11,468,006
27 Montana | 2,982,433
28 Nebraska | 3,076,650
29 Nevada | 7,462,633
30 New Hampshire | 2,982,433
31 New Jersey | 26,873,570
32 New Mexico | 3,521,165
33 New York | 80,290,281
34 North Carolina | 19,660,977
35 North Dakota | 2,982,433
36 Ohio | 23,337,503
37 Oklahoma | 5,907,079
38 Oregon | 10,567,910
39 Pennsylvania | 25,998,644
40 Rhode Island | 2,982,433
41 South Carolina | 8,590,615
42 South Dakota | 2,982,433
43 Tennessee | 10,916,268
44 Texas | 47,375,117
45 Utah | 3,561,979
46 Vermont | 2,982,433
47 Virginia | 16,038,732
48 Washington | 16,889,505
49 West Virginia | 2,982,433
50 Wisconsin | 12,144,277
51 Wyoming | 2,919,921
52 Puerto Rico | 4,064,659
53 America Samoa | 46,187
54 Guam | 373,610
55 Northern Marianas | 205,677
56 Virgin Islands | 394,529
Total | 748,948,399.71

[FR Doc. 2022-13850 Filed 6-28-22; 8:45 am]

BILLING CODE 4210-67-P